DEPARTMENT OF THE TREASURY

Office of Foreign Assets Control

Sanctions Action Pursuant to Executive Order 13224

AGENCY: Office of Foreign Assets Control, Treasury.

ACTION: Notice.

SUMMARY: The Treasury Department's Office of Foreign Assets Control (OFAC) is removing the names of five individuals, whose property and interests in property were blocked pursuant to Executive Order 13224 of September 23, 2001, “Blocking Property and Prohibiting Transactions With Persons Who Commit, Threaten To Commit, or Support Terrorism,” from the list of Specially Designated Nationals and Blocked Persons (SDN List).

DATES: OFAC's action described in this notice was effective on October 27, 2016.

FOR FURTHER INFORMATION CONTACT:

Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Action

The following individuals were removed from the SDN List, effective as of October 27, 2016.

Individuals

1. AL-LIBY, Anas (a.k.a. AL-LIBI, Anas; a.k.a. AL-RAGHIE, Nazih; a.k.a. AL-RAGHIE, Nazih Abdul Hamed; a.k.a. AL-SABAI, Anas), Afghanistan; DOB 30 Mar 1964; alt. DOB 14 May 1964; POB Tripoli, Libya; citizen Libya (individual) [SDGT].

2. HUSAYN ALAYWAH, Al-Sayyid Ahmad Fathi; DOB 30 Jul 1964; POB Suez, Egypt; nationality Egypt (individual) [SDGT].

3. SHAWEESH, Yasser Abu (a.k.a. ABOU SHAWEESH, Yasser Mohamed; a.k.a. ABU SHAWEESH, Yasser Mohamed Ismail), Meckennheimer Str. 74a, Bonn 53179, Germany; Wuppertal Prison, Germany; DOB 20 Nov 1973; POB Benghazi, Libya; Passport 981358 (Egypt); alt. Passport 0003213 (Egypt); Travel Document Number C00071659 (Germany); alt. Travel Document Number 939254 (Egypt) (individual) [SDGT].

4. AIDER, Farid (a.k.a. ACHOUR, Ali), Via Milanese, 5, 20099 Sesto San Giovanni, Milan, Italy; DOB 12 Oct 1964; POB Algiers, Algeria; Italian Fiscal Code DRAFRD64R12Z301C (individual) [SDGT].

5. ABD AL HAFIZ, Abd Al Wahab (a.k.a. FERDJANI, Mouloud; a.k.a. “MOURAD”; a.k.a. “RABAH DI ROMA”), Via Lungotevere Dante, Rome, Italy; DOB 07 Sep 1967; POB Algiers, Algeria (individual) [SDGT].

Dated: October 27, 2016.
John E. Smith,
Acting Director, Office of Foreign Assets Control.

[FR Doc. 2016-26311 Filed 10-31-16; 8:45 am]

BILLING CODE 4810-AL-P